DEPARTMENT OF COMMERCE

National Oceanic and Atmospheric Administration

50 CFR Part 660

[Docket No. 120814338-2711-02]

RIN 0648-BE59

Magnuson-Stevens Act Provisions; Fisheries Off West Coast States; Biennial Specifications and Management Measures; Inseason Adjustments

AGENCY: National Marine Fisheries Service (NMFS), National Oceanic and Atmospheric Administration (NOAA), Commerce.

ACTION: Final rule; inseason adjustments to biennial groundfish management measures.

SUMMARY: This final rule announces inseason changes to management measures in the Pacific Coast groundfish fisheries. This action, which is authorized by the Pacific Coast Groundfish Fishery Management Plan (PCGFMP), is intended to allow fisheries to access more abundant groundfish stocks while protecting overfished and depleted stocks.

DATES: Effective 0001 hours (local time) November 12, 2014.

FOR FURTHER INFORMATION CONTACT: Gretchen Hanshew (West Coast Region, NMFS), phone: 206-526-6147, fax: 206-526-6736, gretchen.hanshew@noaa.gov.

SUPPLEMENTARY INFORMATION:

Electronic Access

This final rule is accessible via the Internet at the Office of the Federal Register's Web site at http://www.gpo.gov/fdsys/search/home.action, or http://federalregister.gov. Background information and documents are available at the Pacific Fishery Management Council's Web site at http://www.pcouncil.org/. Copies of the final environmental impact statement (FEIS) for the 2013-2014 Groundfish Specifications and Management Measures are available from Donald McIsaac, Executive Director, Pacific Fishery Management Council (Council), 7700 NE Ambassador Place, Portland, OR 97220, phone: 503-820-2280.

Background

The PCGFMP and its implementing regulations at title 50 in the Code of Federal Regulations (CFR), part 660, subparts C through G, regulate fishing for over 90 species of groundfish off the coasts of Washington, Oregon, and California. Groundfish specifications and management measures are developed by the Pacific Fishery Management Council (Council), and are implemented by NMFS.

On November 14, 2012, NMFS published a proposed rule to implement the 2013-2014 harvest specifications and management measures for most species of the Pacific Coast groundfish fishery (77 FR 67974). The final rule to implement the 2013-2014 harvest specifications and management measures for most species of the Pacific Coast Groundfish Fishery was published on January 3, 2013 (78 FR 580).

The Council, in coordination with Pacific Coast Treaty Indian Tribes and the States of Washington, Oregon, and California, recommended changes to current groundfish management measures at its October 17, 2014 meeting. Specifically, the Council recommended changing the amount of darkblotched rockfish initially deducted from the annual catch limit (ACL) to account for mortality in the incidental open access sector from 18.4 metric tons (mt) to 15.4 mt. The Council also recommended that the corresponding 3 mt of darkblotched rockfish previously deducted from the ACL be made available to the catcher/processor (C/P) sector of the at-sea Pacific whiting fishery. This rule implements the Council's recommended changes.

As part of the biennial harvest specifications and management measures, ACLs are set for non-whiting groundfish species, deductions are made from the ACL for various sources of mortality (including non-groundfish fisheries that catch groundfish incidentally, also called incidental open access fisheries) and the remainder, the fishery harvest guideline, is allocated amongst the various groundfish fisheries. The limited availability of overfished species that can be taken as incidental catch in the Pacific whiting fisheries, particularly darkblotched rockfish, Pacific ocean perch, and canary rockfish, led NMFS to implement sector-specific allocations for these species to the Pacific whiting fisheries. If the sector-specific allocation for a non-whiting species is reached, NMFS may close one or more of the at-sea sectors automatically, per regulations at § 660.60(d). At the start of 2014, the C/P and Mothership (MS) sectors of the Pacific whiting fishery were allocated 9.0 mt and 6.3 mt of darkblotched rockfish, respectively, per allocation regulations at § 660.55(c)(1)(i)(A).

Reapportionment of Darkblotched Rockfish From the Catcher/Processor Sector to the Mothership Sector

From May 15, 2014 through October 10, 2014, the fishery for Pacific whiting in the MS sector was prosecuted with very low bycatch of darkblotched rockfish (less than 2 mt). On the morning of October 11, 2014, an unexpectedly high bycatch incident of darkblotched rockfish occurred (approximately 5 mt), bringing the total catch of darkblotched rockfish for the MS sector to 7.0 mt, exceeding the MS sector allocation of 6.3 mt. MS fishery participants instituted a voluntary closure of their sector on October 11, 2014 and submitted a letter to NMFS on October 14, 2014 requesting that NMFS consider transferring an additional 3 mt of darkblotched rockfish to the MS sector so that they can re-open the fishery and have the opportunity to harvest the remaining 2014 Pacific whiting allocation. In response to the unexpected closure of the MS sector, the Council convened an emergency meeting on October 17, 2014 to consider options for redistributing darkblotched rockfish allocations and also to address high catch of Chinook salmon in the whiting fisheries.

At its meeting the Council was made aware that, as of October 15, 2014, harvest of darkblotched rockfish in the C/P sector was 2.9 mt; well-below the 2014 allocation of 9.0 mt. Industry representatives of the C/P sector submitted a cease fishing report to NMFS on October 17, 2014 indicating that they did not intend to harvest 3.0 mt of darkblotched rockfish, and that it could be transferred from their initial 2014 allocation (e.g. lower their available darkblotched rockfish from 9.0 mt to 6.0 mt) and used to raise the available amount of darkblotched rockfish in the MS sector (from 6.3 mt to 9.3 mt). Therefore, on October 17, 2014, consistent with the Council's recommendation, NMFS reapportioned 3.0 mt of darkblotched rockfish from the C/P sector to the MS sector as an automatic action pursuant to §§ 660.160(c)(5) and 660.60(d), reducing the C/P darkblotched rockfish allocation from 9.0 mt to 6.0 mt and increasing the MS allocation from 6.3 mt to 9.3 mt, which allowed the MS sector to reopen.

Transferring Darkblotched Rockfish to the Catcher/Processor Sector via Inseason Action

To maintain 2014 harvest opportunities for the catcher/processor (C/P) sector of the Pacific whiting fishery, the Council considered moving darkblotched rockfish quota from the incidental open access fishery to the C/P sector. At the start of 2014 the projected annual mortality of darkblotched rockfish in the incidental open access fishery was 15.0 mt and the amount deducted from the ACL to account for this projected mortality was 18.4 mt, leaving 3.4 mt of darkblotched rockfish projected to go unharvested through the end of 2014. In addition, estimated actual mortality in the incidental open access fishery in 2011 and 2012 was only 5.4 mt and 5.0 mt, respectively, and no landed catch of darkblotched rockfish had been reported to date. Therefore, the Council recommended redistributing 3 mt of darkblotched rockfish from the “off-the-top” deductions that were made at the start of the 2013-2014 biennium, and giving that 3 mt to the C/P sector to accommodate potential bycatch of darkblotched rockfish as the C/P sector prosecutes the remainder of its 2014 Pacific whiting fishery. This rule implements the Council's recommendation. Recent mortality of darkblotched rockfish in the incidental open access fishery has been low and the projected mortality indicates it will not exceed the 15.4 mt accounted for in the remaining off-the-top deduction after transferring the 3 mt to the C/P sector. Reapportionment of darkblotched rockfish, when combined with projected impacts from all other sources, is also not expected to result in greater impacts to other overfished species than originally projected through the end of the year.

Minimizing Incidental Catch of Chinook Salmon

In addition to considering recent catches and potential reapportionment of darkblotched rockfish, the Council also considered the most recently available fishery information on incidental catch of Chinook salmon in the Pacific whiting fishery. As of October 17, 2014, the best available information indicated that the Pacific whiting fishery had taken at least 11,000 Chinook salmon, exceeding the incidental take amount specified in the current biological opinion addressing the fishery's impacts on listed salmonids.

This rule transfers additional darkblotched rockfish to the C/P sector with the intent of allowing the sector to attain its full 2014 allocations of Pacific whiting, as was anticipated to occur through the end of 2014. To reduce bycatch rates of Chinook salmon in the C/P sector, the C/P Cooperative has committed to taking all reasonable actions to further reduce Chinook bycatch, including ceasing any further fishing for whiting if the C/P sector catches a further 275 Chinook after October 17, 2014. This is fewer Chinook than would have been projected based on earlier bycatch rates. The C/P sector has already demonstrated success at avoiding Chinook by fishing in deeper waters. In addition, the MS sector is taking measures to fish in in deeper water and implement time/area closures to maintain a lower daily bycatch rate of Chinook salmon. These measures are being taken in addition to fishing seaward of the Ocean Salmon Conservation Zone. Therefore, fishing opportunities to harvest the remaining 2014 allocation of Pacific whiting in the at-sea fisheries, which are facilitated by the transferring of darkblotched rockfish implemented through this rule, are not anticipated to increase the bycatch rate of Chinook salmon and should result in minimizing additional interactions.

Classification

This final rule makes routine inseason adjustments to groundfish fishery management measures, based on the best available information, consistent with the PCGFMP and its implementing regulations.

This action is taken under the authority of 50 CFR 660.60(c) and is exempt from review under Executive Order 12866.

The aggregate data upon which these actions are based are available for public inspection at the Office of the Administrator, West Coast Region, NMFS, during business hours.

NMFS finds good cause to waive prior public notice and comment on the revisions to groundfish management measures under 5 U.S.C. 553(b) because notice and comment would be impracticable and contrary to the public interest. Also, for the same reasons, NMFS finds good cause to waive the 30-day delay in effectiveness pursuant to 5 U.S.C. 553(d)(3), so that this final rule may become effective November 12, 2014.

At the October emergency Council meeting, the Council recommended that reapportionment of darkblotched rockfish to the C/P sector be implemented as quickly as possible. There was not sufficient time after that meeting to draft this document and undergo proposed and final rulemaking before this action needs to be in effect. For the actions implemented in this final rule, affording the time necessary for prior notice and opportunity for public comment would prevent transfer of darkblotched rockfish to the C/P sector until later in the season, or potentially eliminate the possibility or doing so during the 2014 calendar year entirely, and is therefore impractical. Failing to reapportion darkblotched rockfish to the C/P sector in a timely manner could result in unnecessary restriction of fisheries if the C/P sector exceeded its darkblotched allocation. Providing the C/P sector fishermen an opportunity to harvest their limits of Pacific whiting without interruption and without exceeding their darkblotched rockfish bycatch limit allows harvest as intended by the Council, consistent with the best scientific information available. The whiting fishery contributes a large amount of revenue to the coastal communities of Washington and Oregon and this change allows continued harvest of Pacific whiting while continuing to prevent ACLs of overfished species and the allocations for target species from being exceeded. No aspect of this action is controversial, and changes of this nature were anticipated in the biennial harvest specifications and management measures established for 2013-2014.

Delaying these changes would also keep management measures in place that are not based on the best available information. Such delay would impair achievement of the PCGFMP goals and objectives of managing for appropriate harvest levels while providing for year-round fishing and marketing opportunities. Accordingly, for the reasons stated above, NMFS finds good cause to waive prior notice and comment and to waive the delay in effectiveness.

NMFS has reinitiated section 7 consultation on the PCGFMP with respect to its effects on listed salmonids. In the event the consultation identifies either reasonable and prudent alternatives to address jeopardy concerns or reasonable and prudent measures to minimize incidental take, NMFS would exercise necessary authorities in coordination to the extent possible with the Council to put such additional alternatives or measures into place. After reviewing the available information, NMFS has concluded that, consistent with sections 7(a)(2) and 7(d) of the ESA, this action will not jeopardize any listed species, would not adversely modify any designated critical habitat, and will not result in any irreversible or irretrievable commitment of resources that would have the effect of foreclosing the formulation or implementation of any reasonable and prudent alternative measures.

List of Subjects in 50 CFR Part 660

Fisheries, Fishing, Indian Fisheries.

Dated: November 6, 2014.
James P. Burgess,
Acting Director, Office of Sustainable Fisheries, National Marine Fisheries Service.

For the reasons set out in the preamble, 50 CFR part 660 is amended as follows:

PART 660—FISHERIES OFF WEST COAST STATES

1. The authority citation for part 660 continues to read as follows:

Authority: 16 U.S.C. 1801 et seq., 16 U.S.C. 773 et seq.

2. In subpart C, tables 2a and 2b are revised to read as follows:

Table 2a to Part 660, Subpart C—2014, and Beyond, Specifications of OFL, ABC, ACL, ACT and Fishery Harvest, Guidelines
[Weights in metric tons]
Species | Area | OFL | ABC | ACL ᵃ | Fishery HG ᵇ
Arrowtooth flounder ᶜ | Coastwide | 6,912 | 5,758 | 5,758 | 3,671
Black ᵈ ᵉ | N of 46°16′ N. lat | 428 | 409 | 409 | 395
| S of 46°16′ N. lat | 1,166 | 1,115 | 1,000 | 1,000
Bocaccio ᶠ | S of 40°10′ N. lat | 881 | 842 | 337 | 328.6
Cabezon ᵍ ʰ | 46°16′ to 42° N. lat | 49 | 47 | 47 | 47
| S of 42° N. lat | 165 | 158 | 158 | 158
California scorpionfish ⁱ | S of 34°27′ N. lat | 122 | 117 | 117 | 115
Canary rockfish ᵐ | Coastwide | 741 | 709 | 119 | 101.5
Chilipepper ᵏ | S of 40°10′ N. lat | 1,722 | 1,647 | 1,647 | 1,423
Cowcod ˡ | S of 40°10′ N. lat | 12 | 9 | 3 | 2.9
Darkblotched rockfish ᵐ | Coastwide | 553 | 529 | 330 | 309.2
Dover sole ⁿ | Coastwide | 77,774 | 74,352 | 25,000 | 23,410
English sole ᵒ | Coastwide | 5,906 | 5,646 | 5,646 | 5,543
Lingcod ᵖ ᵍ | N of 40°10′ N. lat | 3,162 | 2,878 | 2,878 | 2,600
| S of 40°10′ N. lat | 1,276 | 1,063 | 1,063 | 1,054
Longnose skate ʳ | Coastwide | 2,816 | 2,692 | 2,000 | 1,928
Longspine thornyhead ˢ | N of 34°27′ N. lat | 3,304 | 2,752 | 1,958 | 1,912
| S of 34°27′ N. lat |  |  | 347 | 344
Minor nearshore rockfish north ᵗ | N of 40°10′ N. lat | 110 | 94 | 94 | 94
Minor shelf rockfish northᵘ | N of 40°10′ N. lat | 2,195 | 1,932 | 968 | 903
Minor slope rockfish north ᵛ | N of 40°10′ N. lat | 1,153 | 1,414 | 1,160 | 1,098
Minor nearshore rockfish south ʷ | S of 40°10′ N. lat | 1,160 | 1,001 | 990 | 990
Minor shelf rockfish south ˣ | S of 40°10′ N. lat | 1,913 | 1,620 | 714 | 668.0
Minor slope rockfish south ʸ | S of 40°10′ N. lat | 685 | 622 | 622 | 601
Other fish ᶻ | Coastwide | 6,802 | 4,697 | 4,697 | 4,520
Other flatfish ᵃᵃ | Coastwide | 10,060 | 6,982 | 4,884 | 4,682
Pacific cod ᵇᵇ | Coastwide | 3,200 | 2,221 | 1,600 | 1,191
Pacific ocean perch (POP) ᶜᶜ | N of 40°10′ N. lat | 838 | 801 | 153 | 136.5
Pacific whiting ᵈᵈ | Coastwide | 825,000 | (ᵈᵈ) | (ᵈᵈ) | 259,370
Petrale sole ᵉᵉ | Coastwide | 2,774 | 2,652 | 2,652 | 2,418.0
Sablefish ᶠᶠ ᵍᵍ | N of 36° N. lat | 7,158 | 6,535 | 4,349 | See Table 1c
| S of 36° N. lat |  |  | 1,560 | 1,555
Shortbelly ʰʰ | Coastwide | 6,950 | 5,789 | 50 | 48
Shortspine thornyhead ⁱⁱ | N of 34°27′ N. lat | 2,310 | 2,208 | 1,525 | 1,466
| S of 34°27′ N. lat |  |  | 393 | 351
Splitnose ʲʲ | S of 40°10′ N. lat | 1,747 | 1,670 | 1,670 | 1,658
Starry flounder ᵏᵏ | Coastwide | 1,834 | 1,528 | 1,528 | 1,521
Widow ˡˡ | Coastwide | 4,435 | 4,212 | 1,500 | 1,411
Yelloweye rockfish ᵐᵐ | Coastwide | 51 | 43 | 18 | 12.2
Yellowtail ⁿⁿ | N of 40°10′ N. lat | 4,584 | 4,382 | 4,382 | 3,681
ᵃ ACLs, ACTs and HGs are specified as total catch values.
ᵇ Fishery harvest guidelines means the harvest guideline or quota after subtracting from the ACL or ACT Pacific Coast treaty Indian tribes allocations and projected catch, projected research catch, deductions for fishing mortality in non-groundfish fisheries, and deductions for EFPs.
ᶜ Arrowtooth flounder. The stock was last assessed in 2007 and was estimated to be at 79 percent of its unfished biomass in 2007. The OFL of 6,912 mt is based on the 2007 assessment with an F30%% FMSY proxy. The ABC of 5,758 mt is a 17 percent reduction from the OFL (σ=0.72/P*=0.40) as it's a category 2 stock. Because the stock is above B25%%, the ACL is set equal to the ABC. 2,087.39 mt is deducted from the ACL for the Tribal fishery (2,041 mt), the incidental open access fishery (30 mt), and research catch (16.39 mt), resulting in a fishery HG of 3,671 mt.
ᵈ Black rockfish north (Washington). A stock assessment was prepared for black rockfish north of 45°46′ N. lat. (Cape Falcon, Oregon) in 2007. The biomass in the north was estimated to be at 53 percent of its unfished biomass in 2007. The OFL from the assessed area is based on the 2007 assessment with a harvest rate proxy of F50%%. The resulting OFL for the area north of 46°16 N. lat. is 428 mt and is 97 percent of the OFL from the assessed area based on the area distribution of historical catch. The ABC of 409 mt for the north is a 4 percent reduction from the OFL (σ=0.36/P*=0.45) as it's a category 1 stock. The ACL was set equal to the ABC since the stock is above B40%%. 14 mt is deducted from the ACL for the Tribal fishery, resulting in a fishery HG of 395 mt.
ᵉ Black rockfish south (Oregon and California). A stock assessment was prepared for black rockfish south of 45°46 N. lat. (Cape Falcon, Oregon) to Central California in 2007. The biomass in the south was estimated to be at 70 percent of its unfished biomass in 2007. The OFL from the assessed area is based on the 2007 assessment with a harvest rate proxy of F50%% plus 3 percent of the OFL from the stock assessment prepared for black rockfish north of 45°46′ N. lat. The resulting OFL for the area south of 46°16 N. lat. is 1,166 mt. The ABC of 1,115 mt and is a 4 percent reduction from the OFL (σ=0.36/P*=0.45) as it's a category 1 stock. The 2013 and 2014 ACL is 1,000 mt, which maintains the constant catch strategy designed to keep the stock biomass above B40%%. There are no deductions from the ACL thus the fishery HG is equal to the ACL. The black rockfish ACL, in the area south of 46°16′ N. lat. (Columbia River), is subdivided with separate HGs being set for waters off Oregon (580 mt/58 percent) and for waters off California (420 mt/42 percent).
ᶠ Bocaccio. A bocaccio stock assessment update was prepared in 2011 for the bocaccio stock between the U.S.-Mexico border and Cape Blanco. The stock is managed with stock-specific harvest specifications south of 40°10′ N. lat. and within the minor shelf rockfish complex north of 40°10 N. lat. Historical catch distribution of approximately 6 percent was used to apportion the assessed stock to the area north of 40°10′ N. lat. The bocaccio stock was estimated to be at 26 percent of its unfished biomass in 2011. The OFL of 881 mt is based on the 2011 stock assessment STAT model with an FMSY proxy of F50%%. The ABC of 842 mt is a 4 percent reduction from the OFL (σ=0.36/P*=0.45) as it's a category 1 stock. The 337 mt ACL is based on a rebuilding plan with a target year to rebuild of 2022 and an SPR harvest rate of 77.7 percent. 8.4 mt is deducted from the ACL for the incidental open access fishery (0.7 mt), EFP catch (6.0 mt) and research catch (1.7 mt), resulting in a fishery HG of 328.6 mt. The California recreational fishery has an HG of 172.5 mt.
ᵍ Cabezon (Oregon). A cabezon stock assessment was prepared in 2009. The cabezon biomass in waters off Oregon was estimated to be at 52 percent of its unfished biomass in 2009. The OFL of 49 mt was calculated using an FMSY proxy of F45%%. The ABC of 47 mt was based on a 4 percent reduction from the OFL (σ=0.36/P*=0.45) as it's a category 1 species. Because the stock is above B40%%, the ACL is set equal to the ABC. There are no deductions from the ACL so the fishery HG is also equal to the ACL at 47 mt. Cabezon in waters off Oregon were removed from the “other fish” complex in 2011.
ʰ Cabezon (California). A cabezon stock assessment was prepared in 2009. The cabezon biomass in waters off California was estimated to be at 48 percent of its unfished biomass in 2009. The OFL of 165 mt was calculated using an FMSY proxy of F45%%. The ABC of 158 mt was based on a 4 percent reduction from the OFL (σ=0.36/P*=0.45) as it's a category 1 stock. Because the stock is above B40%%, the ACL is set equal to the ABC. There are no deductions from the ACL so the fishery HG is also equal to the ACL at 158 mt.
ⁱ California scorpionfish was assessed in 2005 and was estimated to be at 80 percent of its unfished biomass in 2005. The OFL of 122 mt is based on the 2005 assessment with a harvest rate proxy of F50%%. The ABC of 117 mt is a 4 percent reduction from the OFL (σ=0.36/P*=0.45) as it's a category 1 stock. Because the stock is above B40%%, the ACL is set equal to the ABC. 2 mt is deducted from the ACL for the incidental open access fishery, resulting in a fishery HG of 115 mt.
ʲ Canary rockfish. A canary rockfish stock assessment update was prepared in 2011 and the stock was estimated to be at 24 percent of its unfished biomass coastwide in 2011. The coastwide OFL of 741 mt is based on the new assessment with a FMSY proxy of F50%%. The ABC of 709 mt is a 4 percent reduction from the OFL (σ=0.36/P*=0.45) as it's a category 1 stock. The ACL of 119 mt is based on a rebuilding plan with a target year to rebuild of 2030 and a SPR harvest rate of 88.7 percent. 17.5 mt is deducted from the ACL for the Tribal fishery (9.5 mt), the incidental open access fishery (2 mt), EFP catch (1.5 mt) and research catch (4.5 mt) resulting in a fishery HG of 101.5 mt. Recreational HGs are being specified: Washington, 3.2; Oregon 11.1 mt; and California 23 mt.
ᵏ Chilipepper. The coastwide chilipepper stock was assessed in 2007 and estimated to be at 70 percent of its unfished biomass coastwide in 2006. Chilipepper are managed with stock-specific harvest specifications south of 40°10 N. lat. and within the minor shelf rockfish complex north of 40°10′ N. lat. Projected OFLs are stratified north and south of 40°10′ N. latitude based on the average 1998-2008 assessed area catch, which is 93 percent for the area south of 40°10′ N. latitude and 7 percent for the area north of 40°10′ N. latitude. South of 40°10′ N. lat., the OFL of 1,722 mt is based on the 2007 assessment with an FMSY proxy of F50%%. The ABC of 1,647 mt is a 4 percent reduction from the OFL (σ=0.36/P*=0.45) as it's a category 1 stock. Because the unfished biomass is estimated to be above 40 percent of the unfished biomass, the ACL was set equal to the ABC. 224 mt is deducted from the ACL for the incidental open access fishery (5 mt), EFP fishing (210 mt), and research catch (9 mt), resulting in a fishery HG of 1,423 mt.
ˡ Cowcod. A stock assessment update prepared in 2009 estimated the stock to be 5 percent of its unfished biomass in 2009. The OFLs for the Monterey and Conception areas were summed to derive the south of 40°10 N. lat. OFL of 12 mt. The ABC for the area south of 40°10′ N. lat. is 9 mt. The assessed portion of the stock in the Conception Area was considered category 2, with a Conception Area contribution to the ABC of 5 mt, which is a 17 percent reduction from the OFL (σ=0.72/P*=0.40). The unassessed portion of the stock in the Monterey area was considered a category 3 stock, with a contribution to the ABC of 3 mt, which is a 31 percent reduction from the OFL (σ=1.44/P*=0.40). A single ACL of 3 mt is being set for both areas combined. The ACL of 3 mt is based on a rebuilding plan with a target year to rebuild of 2068 and an SPR rate of 82.7 percent. 0.1 mt is deducted from the ACL for the amount anticipated to be taken during research activity (0.1 mt), resulting in a fishery HG of 2.9 mt.
ᵐ Darkblotched rockfish. A stock assessment update was prepared in 2011, and the stock was estimated to be at 30.2 percent of its unfished biomass in 2011. The OFL is projected to be 553 mt and is based on the 2011 stock assessment with an FMSY proxy of F50%%. The ABC of 529 mt is a 4 percent reduction from the OFL (σ=0.36/P*=0.45) as it's a category 1 stock. The ACL of 330 mt is based on a rebuilding plan with a target year to rebuild of 2025 and an SPR harvest rate of 64.9 percent. 20.8 mt is deducted from the ACL for the Tribal fishery (0.1 mt), the incidental open access fishery (18.4 mt), EFP catch (0.2 mt) and research catch (2.1 mt), resulting in a fishery HG of 309.2 mt. Of the 18.4 mt initially deducted from the ACL to account for mortality in the incidental open access fishery, 3.0 mt is distributed to the catcher/processor fishery consistent with 660.60(c)(3)(ii).
ⁿ Dover sole. A 2011 Dover sole assessment estimated the stock to be at 83.7 percent of its unfished biomass in 2011. The OFL of 77,774 mt is based on the results of the 2011 stock assessment with an FMSY proxy of F30%%. The ABC of 74,352 mt is a 4 percent reduction from the OFL (σ=0.36/P*=0.45) as it's a category 1 stock. Because the stock is above B25%% coastwide, the ACL could be set equal to the ABC. However, the ACL of 25,000 mt is set at a level below the ABC and higher than the maximum historical landed catch. 1,590 mt is deducted from the ACL for the Tribal fishery (1,497 mt), the incidental open access fishery (55 mt) and research catch (38 mt), resulting in a fishery HG of 23,410 mt.
ᵒ English sole. A stock assessment update was prepared in 2007. The stock was estimated to be at 116 percent of its unfished biomass in 2007. The OFL of 5,906 mt is based on the results of the 2007 assessment update with an FMSY proxy of F30%%. The ABC of 5,646 mt is a 4 percent reduction from the OFL (σ=0.36/P*=0.45) as it's a category 1 stock. Because the stock is above B25%%, the ACL was set equal to the ABC. 103 mt is deducted from the ACL for the Tribal fishery (91 mt), the incidental open access fishery (7 mt) and research catch (5 mt), resulting in a fishery HG of 5,543 mt.
ᵖ Lingcod north. A lingcod stock assessment was prepared in 2009. The lingcod biomass off Washington and Oregon was estimated to be at 62 percent of its unfished biomass in 2009. The OFL of 3,162 mt was calculated using an FMSY proxy of F45%%. The ABC of 2,878 mt was based on a 4 percent reduction from the OFL (σ=0.36/P*=0.45) for the area north of 42° N. lat. as it's a category 1 stock, and 17 percent reduction from the OFL (σ=0.72/P*=0.40) for the area between 42° N. lat. and 40°10′ N. lat. as it's a category 2 stock. The ACL was set equal to the ABC. 277.7 mt is deducted from the ACL for the Tribal fishery (250 mt), the incidental open access fishery (16 mt) and research catch (11.67 mt), resulting in a fishery HG of 2,600 mt.
q Lingcod south. A lingcod stock assessment was prepared in 2009. The lingcod biomass off California was estimated to be at 74 percent of its unfished biomass in 2009. The OFL of 1,276 mt was calculated using an FMSY proxy of F45%%. The ABC of 1,063 mt was based on a 17 percent reduction from the OFL (σ=0.72/P*=0.40) as it's a category 2 stock. The ACL was set equal to the ABC. 9 mt is deducted from the ACL for the incidental open access fishery (7 mt) and EFP fishing (2 mt), resulting in a fishery HG of 1,054 mt.
ʳ Longnose skate. A stock assessment was prepared in 2007 and the stock was estimated to be at 66 percent of its unfished biomass. The OFL of 2,816 mt is based on the 2007 stock assessment with an FMSY proxy of F45%%. The ABC of 2,692 mt is a 4 percent reduction from the OFL (σ=0.36/P*=0.45) as it's a category 1 stock. The ACL of 2,000 mt is a fixed harvest level that provides greater access to the stock. 72.18 mt is deducted from the ACL for the Tribal fishery (56 mt), incidental open access fishery (3 mt), and research catch (13.18 mt), resulting in a fishery HG of 1,928 mt.
ˢ Longspine thornyhead. A coastwide stock assessment was conducted in 2005 and the stock was estimated to be at 71 percent of its unfished biomass in 2005. A coastwide OFL of 3,304 mt is based on the 2005 stock assessment with a F50%% FMSY proxy. The ABC of 2,752 mt is a 17 percent reduction from the OFL (σ=0.72/P*=0.40) as it's a category 2 stock. For the portion of the stock that is north of 34°27′ N. lat., the ACL is 1,958 mt, and is 79 percent of the coastwide OFL for the biomass found in that area reduced by an additional 25 percent as a precautionary adjustment. 46 mt is deducted from the ACL for the Tribal fishery (30 mt), the incidental open access fishery (3 mt), and research catch (13 mt) resulting in a fishery HG of 1,912 mt. For that portion of the stock south of 34°27′ N. lat. the ACL is 347 mt and is 21 percent of the coastwide OFL reduced by 50 percent as a precautionary adjustment. 3 mt is deducted from the ACL for the incidental open access fishery (2 mt), and research catch (1 mt) resulting in a fishery HG of 344 mt.
ᵗ Minor nearshore rockfish north. The OFL of 110 mt is the sum of the OFL contributions for the component species within the complex. The ABCs for the minor rockfish complexes are based on a sigma value of 0.72 for category 2 stocks (blue rockfish in California) and 1.44 for category 3 stocks (all others) with a P* of 0.45. The resulting ABC of 94 mt is the summed contribution of the ABCs for the component species. The ACL is set equal to the complex ABC. No deductions are made to the ACL, thus the fishery HG is equal to the ACL, which is 94 mt.
ᵘ Minor shelf rockfish north. The OFL of 2,195 mt is the sum of the OFL contributions for the component species within the complex. The ABCs for the minor rockfish complexes are based on a sigma value of 0.72 for category 2 stocks (greenspotted rockfish between 40°10′ and 42° N. lat. and greenstriped rockfish) and 1.44 for category 3 stocks (all others) with a P* of 0.45. The resulting ABC of 1,932 mt is the summed contribution of the ABCs for the component species. The ACL of 968 mt is the same as the 2012 ACL. 65.24 mt is deducted from the ACL for the Tribal fishery (30 mt), the incidental open access fishery (26 mt), EFP catch (3 mt) and research catch (6.24 mt) resulting in a fishery HG of 902.8 mt.
ᵛ Minor slope rockfish north. The OFL of 1,553 mt is the sum of the OFL contributions for the component species within the complex. The ABCs for the northern minor slope rockfish complex is based on a sigma value of 0.36 for category 1 stocks (splitnose rockfish) and 1.44 for category 3 stocks (all others) with a P* of 0.45. The resulting ABC of 1,414 mt is the summed contribution of the ABCs for the component species. The ACL of 1,160 mt is the same as the 2012 ACL. 62 mt is deducted from the ACL for the Tribal fishery (36 mt), the incidental open access fishery (19 mt), EFP catch (1 mt) and research catch (6 mt), resulting in a fishery HG of 1,098 mt.
ʷ Minor nearshore rockfish south. The OFL of 1,160 mt is the sum of the OFL contributions for the component species within the complex. The ABC for the southern minor nearshore rockfish complex is based on a sigma value of 0.36 for category 1 stocks (gopher rockfish north of 34°27′ N. lat.), 0.72 for category 2 stocks (blue rockfish north of 34°27′ N. lat.) and 1.44 for category 3 stocks (all others) with a P* of 0.45. The resulting minor nearshore rockfish south ABC, which is the summed contribution of the ABCs for the component species within the complex, is 1,001 mt. The ACL is the same as the 2012 ACL. There are no deductions from the ACL, resulting in a fishery HG of 990 mt. Blue rockfish south of 42° N. latitude has a species-specific HG of 236 mt.
ˣ Minor shelf rockfish south. The OFL of 1,913 mt is the sum of the OFL contributions for the component species within the complex. The ABCs for the southern minor shelf rockfish complex is based on a sigma value of 0.72 for category 2 stocks (greenspotted and greenstriped rockfish) and 1.44 for category 3 stocks (all others) with a P* of 0.45. The resulting ABC of 1,620 mt is the summed contribution of the ABCs for the component species. The ACL of 714 mt is the same as the 2012 ACL. 46 mt is deducted from the ACL for the incidental open access fishery (9 mt), EFP catch (31 mt) and research catch (6 mt), resulting in a shelf fishery HG of 668 mt.
ʸ Minor slope rockfish south. The OFL of 685 mt is the sum of the OFL contributions for the component species within the complex. The ABC for the southern minor slope rockfish complex is based on a sigma value of 0.72 for category 2 stocks (bank and blackgill rockfish) and 1.44 for category 3 stocks (all others) with a P* of 0.45. The resulting ABC of 622 mt is the summed contribution of the ABCs for the component species. The ACL is equal to the ABC. 21 mt is deducted from the ACL for the incidental open access fishery (17 mt), EFP catch (2 mt) and research catch (2 mt), resulting in a slope fishery HG of 601 mt. Blackgill rockfish has species-specific HGs: 27 mt for the limited entry fixed gear fishery; 18 mt for the open access fishery.
ᶻ “Other fish” is composed entirely of groundfish FMP species that are neither rockfish (family Scorpaenidae) nor flatfish, and most of these species are unassessed, with the exception of spiny dogfish, was assessed in 2011 and is a category 2 stock. The OFL of 6,802 mt is the sum of the OFL contributions for the component species within the complex. The OFL contribution for spiny dogfish is projected from the 2011 assessment using an F45%% FMSY proxy harvest rate. The ABC of 4,697 mt is calculated by applying a P* of 0.40 and a sigma of 1.44 to the OFLs calculated for the category 3 stocks (i.e., all stocks other than spiny dogfish) and a P* of 0.30 and a sigma of 0.72 to the OFL calculated for spiny dogfish. The resulting ABC for the complex is the summed contribution of the ABCs calculated for the component stocks. The ACL is set equal to the ABC. 177 mt is deducted from the ACL for the Tribal fishery (112 mt), the incidental open access fishery (50 mt), EFP catch (3 mt) and research catch (12 mt), resulting in an “other fish” fishery HG of 4,520 mt.
ᵃᵃ “Other flatfish” are the unassessed flatfish species that do not have individual OFLs/ABCs/ACLs and include butter sole, curlfin sole, flathead sole, Pacific sand dab, rex sole, rock sole, and sand sole. The other flatfish OFL of 10,060 mt is based on the sum of the OFL contributions of the component stocks. The ABC of 6,982 mt is a 31 percent reduction from the OFL (σ=1.44/P*=0.40) as the complex is composed of category 3 stocks. The ACL of 4,884 mt is the 2011 and 2012 ACL carried forward as there have been no significant changes in the status or management of stocks within the complex. 202 mt is deducted from the ACL for the Tribal fishery (60 mt), the incidental open access fishery (125 mt), and research catch (17 mt), resulting in a fishery HG of 4,682 mt.
ᵇᵇ Pacific cod. The 3,200 mt OFL is based on the maximum level of historic landings. The ABC of 2,221 mt is a 31 percent reduction from the OFL (σ=1.44/P*=0.40) as it's a category 3 stock. The 1,600 mt ACL is the OFL reduced by 50 percent as a precautionary adjustment. 409.04 mt is deducted from the ACL for the Tribal fishery (400 mt), research fishing (7.04 mt), and the incidental open access fishery (2.0 mt), resulting in a fishery HG of 1,191 mt.
ᶜᶜ Pacific Ocean Perch. A POP stock assessment was prepared in 2011 and the stock was estimated to be at 19.1 percent of its unfished biomass in 2011. The OFL of 838 mt for the area north of 40°10 N. lat. is based on the 2011 stock assessment with an F50%% FMSY proxy. The ABC of 801 mt is a 4 percent reduction from the OFL (σ=0.36/P*=0.45) as it's a category 1 stock. The ACL of 153 mt is based on a rebuilding plan with a target year to rebuild of 2051 and an SPR harvest rate of 86.4 percent. 16.5 mt is deducted from the ACL for the Tribal fishery (10.9 mt), open access fishery (0.4 mt) and research catch (5.2 mt), resulting in a fishery HG of 136.5 mt.
ᵈᵈ Pacific whiting. The most recent stock assessment was prepared in January 2014. The 2014 Fishery Harvest Guideline (Fishery HG) is calculated as follows. U.S. TAC of 316,206 mt minus 55,336 mt for the Tribal allocation minus 1,500 mt for catch in research activities and as non-groundfish bycatch, resulting in a fishery harvest guideline of 259,370 mt. The TAC for Pacific whiting is established under the provisions of the Pacific Hake/Whiting Agreement with Canada and the Pacific Whiting Act of 2006, 16 U.S.C. 7001-7010, and the international exception applies. Therefore, no ABC or ACL values are provided for Pacific whiting. The 2014 OFL of 825,000 mt is based on the 2014 assessment with an F40%% FMSY proxy.
ᵉᵉ Petrale sole. A petrale sole stock assessment was prepared for 2011. In 2011 the petrale sole stock was estimated to be at 18 percent of its unfished biomass. The OFL of 2,774 mt is based on the 2011 assessment with an F30%% FMSY proxy. The ABC of 2,652 mt is a 4 percent reduction from the OFL (σ=0.36/P*=0.45) as it's a category 1 stock. The ACL is set equal to the ABC. 234 mt is deducted from the ACL for the Tribal fishery (220 mt), the incidental open access fishery (2.4 mt), and research catch (11.6 mt), resulting in a fishery HG of 2,418 mt.
ᶠᶠ Sablefish north. A coastwide sablefish stock assessment was prepared in 2011. The coastwide sablefish biomass was estimated to be at 33 percent of its unfished biomass in 2011. The coastwide OFL of 7,158 mt is based on the 2011 stock assessment with an FMSY proxy of F45%%. The ABC of 6,535 mt is an 8.7 percent reduction from the OFL (σ=0.36/P*=0.40). The 40-10 harvest policy was applied to the ABC to derive a coastwide ACL value. Then the ACL value was apportioned north and south of 36° N. lat., using the average of annual swept area biomass (2003-2010) from the NMFS NWFSC trawl survey, with 73.6 percent going to the area north of 36° N. lat. and 26.4 percent going to the area south of 36° N. lat. The northern ACL is 4,349 mt and is reduced by 435 mt for the tribal allocation (10 percent of the ACL north of 36° N. lat.). The 435 mt Tribal allocation is reduced by 1.5 percent to account for discard mortality. Detailed sablefish allocations are shown in Table 1c.
ᵍᵍSablefish south. The ACL for the area south of 36° N. lat. is 1,560 mt (26.4 percent of the calculated coastwide ACL value). 5 mt is deducted from the ACL for the incidental open access fishery (2 mt) and research catch (3 mt), resulting in a fishery HG of 1,555 mt.
ʰʰ Shortbelly rockfish. A non-quantitative assessment was conducted in 2007. The spawning stock biomass of shortbelly rockfish was estimated at 67 percent of its unfished biomass in 2005. The OFL of 6,950 mt was recommended for the stock in 2014 with an ABC of 5,789 mt (σ=0.72 with a P* of 0.40). The 50 mt ACL is slightly higher than recent landings and is in recognition of the stock's importance as a forage species in the California Current ecosystem. 2 mt is deducted from the ACL for research catch, resulting in a fishery HG of 48 mt.
ⁱⁱ Shortspine thornyhead. A coastwide stock assessment was conducted in 2005 and the stock was estimated to be at 63 percent of its unfished biomass in 2005. A coastwide OFL of 2,310 mt is based on the 2005 stock assessment with a F50%% FMSY proxy. The coastwide ABC of 2,208 mt is a 4 percent reduction from the OFL (σ=0.36/P*=0.45) as it's a category 1 stock. For the portion of the stock that is north of 34°27′ N. lat., the ACL is 1,525 mt. The northern ACL is 66 percent of the coastwide OFL for the portion of the biomass found north of 34°27′ N. lat. 59.22 mt is deducted from the ACL for the Tribal fishery (50 mt), the incidental open access fishery (2 mt), and research catch (7.22 mt) resulting in a fishery HG of 1,466 mt for the area north of 34°27′ N. lat. For that portion of the stock south of 34°27′ N. lat. the ACL is 393 mt which is 34 percent of the coastwide OFL for the portion of the biomass found south of 34°27′ N. lat. reduced by 50 percent as a precautionary adjustment. 42 mt is deducted from the ACL for the incidental open access fishery (41 mt), and research catch (1 mt) resulting in a fishery HG of 351 mt for the area south of 34°27′ N. lat.
ʲʲ Splitnose rockfish. A coastwide assessment was prepared in 2009 that estimated the stock to be at 66 percent of its unfished biomass in 2009. Splitnose in the north is managed under the minor slope rockfish complex and with species-specific harvest specifications south of 40°10′ N. lat. The OFLs were apportioned north and south based on the average 1916-2008 assessed area catch resulting in 64.2 percent stock-specific OFL south of 40°10′ N. lat., and 35.8 percent for the contribution of splitnose rockfish to the northern minor slope rockfish complex. South of 40°10′ N. lat. the OFL of 1,747 mt is based on the 2009 assessment with an FMSY proxy of F50%%. The ABC of 1,670 mt is a 4 percent reduction from the OFL (σ=0.36/P*=0.45) as it's a category 1 stock. Because the unfished biomass is estimated to be above 40 percent of the unfished biomass, the ACL is set equal to the ABC. 12 mt is deducted from the ACL for research catch (9 mt) and EFP catch (3 mt), resulting in a fishery HG of 1,658 mt.
ᵏᵏ Starry Flounder. The stock was assessed in 2005 and was estimated to be above 40 percent of its unfished biomass in 2005. For 2013, the coastwide OFL of 1,834 mt is based on the 2005 assessment with an FMSY proxy of F30%%. The ABC of 1,528 mt is a 17 percent reduction from the OFL (σ=0.72/P*=0.40) as it's a category 2 stock. Because the stock is above B25%%, the ACL was set equal to the ABC. 7 mt is deducted from the ACL for the Tribal fishery (2 mt), and the incidental open access fishery (5 mt), resulting in a fishery HG of 1,521 mt.
ˡˡ Widow rockfish. The stock was assessed in 2011 and was estimated to be at 51.1 percent of its unfished biomass in 2011. The OFL of 4,435 mt is based on the 2011 stock assessment with an F50%% FMSY proxy. The ABC of 4,212 mt is a 5 percent reduction from the OFL (σ=0.41/P*=0.45). A unique sigma of 0.41 was calculated for widow rockfish since the estimated variance in estimated biomass was greater than the 0.36 used as a proxy for other category 1 stocks. A constant catch strategy will be used with an ACL of 1,500 mt. 89.2 mt is deducted from the ACL for the Tribal fishery (60 mt), the incidental open access fishery (89.2 mt), EFP catch (18 mt) and research catch (7.9 mt), resulting in a fishery HG of 1,411 mt.
ᵐᵐ Yelloweye rockfish. A stock assessment update was prepared in 2011. The stock was estimated to be at 21.3 percent of its unfished biomass in 2011. The 51 mt coastwide OFL was derived from the base model in the new stock assessment with an FMSY proxy of F50%%. The ABC of 43 mt is a 17 percent reduction from the OFL (σ=0.72/P*=0.40) as it's a category 2 stock. The 18 mt ACL is based on a rebuilding plan with a target year to rebuild of 2074 and an SPR harvest rate of 76.0 percent. 5.82 mt is deducted from the ACL for the Tribal fishery (2.3 mt), the incidental open access fishery (0.2 mt), EFP catch (0.02 mt) and research catch (3.3 mt) resulting in a fishery HG of 12.2 mt. Recreational HGs are being established: Washington, 2.9; Oregon, 2.6 mt; and California, 3.4 mt.
ⁿⁿ Yellowtail rockfish. A yellowtail rockfish stock assessment update was last prepared in 2005 for the area north of 40°10′ N. latitude to the U.S-Canadian border. Yellowtail rockfish was estimated to be at 55 percent of its unfished biomass in 2005. The OFL of 4,584 mt is based on the 2005 stock assessment with the FMSY proxy of F50%%. The ABC of 4,382 mt is a 4 percent reduction from the OFL (σ=0.36/P*=0.45) as it's a category 1 stock. The ACL was set equal to the ABC, because the stock is above B40%%. 701.49 mt is deducted from the ACL for the Tribal fishery (677 mt), the incidental open access fishery (3 mt), EFP catch (10 mt) and research catch (11.49 mt), resulting in a fishery HG of 3,681mt.

Table 2b to Part 660, Subpart C—2014, and Beyond, Allocations by Species or Species Group
[Weights in metric tons]
Species | Fishery HG | Allocations: Trawl: % | Allocations: Trawl: Mt | Allocations: Non-trawl: % | Allocations: Non-trawl: Mt
Arrowtooth flounder | 3,671 | 95 | 3,487 | 5 | 184
Bocaccio—S of 40°10′ N. lat. ᵃ | 328.6 | NA | 79.0 | NA | 249.6
Canary rockfish ᵃ ᵇ | 101.5 | NA | 54.1 | NA | 47.4
Chilipepper—S of 40°10′ N. Lat | 1,423 | 75 | 1,067 | 25 | 356
Cowcod—S of 40°10′ N. Lat. ᵃ | 2.9 | NA | 1.0 | NA | 1.9
Darkblotched rockfish ᶜ | 309.2 | 95 | 293.7 | 5 | 15.5
Dover sole | 23,410 | 95 | 22,240 | 5 | 1,171
English sole | 5,543 | 95 | 5,266 | 5 | 277
Lingcod:
N of 40°10′ N. lat | 2,600 | 45 | 1,170 | 55 | 1,430
S of 40°10′ N. lat | 1,054 | 45 | 474 | 55 | 580
Longnose skate ᵃ | 1,928 | 90 | 1,735 | 10 | 193
Longspine thornyhead
N of 34°27′ N. lat | 1,912 | 95 | 1,816 | 5 | 96
Minor shelf rockfish north ᵃ | 903 | 60.2 | 543 | 39.8 | 359
Minor slope rockfish north | 1,098 | 81 | 889 | 19 | 209
Minor shelf rockfish south ᵃ | 668 | 12.2 | 81 | 87.8 | 587
Minor slope rockfish south | 601 | 63 | 379 | 37 | 222
Other flatfish | 4,682 | 90 | 4,214 | 10 | 468
Pacific cod | 1,191 | 95 | 1,131 | 5 | 60
POP—N of 40°10′ N. lats. ᵈ | 136.5 | 95 | 129.7 | 5 | 6.8
Pacific whiting | TBA | 100 | TBA | 0 | TBA
Petrale sole ᵃ | 2,418.0 | NA | 2383.0 | NA | 35.0
Sablefish:
N of 36° N. lat | See Table 1c of this subpart
S of 36° N. lat | 1,555.0 | 42 | 653 | 58 | 902
Shortspine thornyhead:
N of 34°27′ N. lat | 1,466 | 95 | 1,393 | 5 | 73
S of 34°27′ N. lat | 351 | NA | 50 | NA | 301
Splitnose—S of 40°10′ N. Lat | 1,658 | 95 | 1,575 | 5 | 83
Starry Flounder | 1,521 | 50 | 761 | 50 | 761
Widow ᵉ | 1,411 | 91 | 1,284 | 9 | 127
Yelloweye rockfish ᵃ | 12.2 | NA | 1.0 | NA | 11.2
Yellowtail—N of 40°10′ N. Lat | 3,681 | 88 | 3,239 | 12 | 442
ᵃ Allocations decided through the biennial specification process.
ᵇ 13 mt of the total trawl allocation of canary rockfish is allocated to the at-sea whiting fisheries, as follows: 5.4 mt for the mothership fishery, and 7.6 mt for the catcher/processor fishery.
ᶜ 9 percent (26.4 mt) of the total trawl allocation for darkblotched rockfish is allocated to the whiting fisheries, as follows: 11.1 mt for the shorebased IFQ fishery, 6.3 mt for the mothership fishery, and 9.0 mt for the catcher/processor fishery. Effective at 2000 hours local time on October 17, 2014, the amount of darkblotched rockfish available to the catcher/processor fishery was reduced by 3.0 mt, to 3.3 mt, and the amount available to the mothership fishery was raised by 3.0 mt, to 9.3 mt. The amount available to the catcher/processor fishery was subsequently raised back to 6.3 mt by distributing to the catcher/processor fishery 3.0 mt of the 18.4 mt initially deducted from the ACL to account for mortality in the incidental open access fishery, consistent with 660.60(c)(3)(ii). The tonnage calculated here for the whiting portion of the shorebased IFQ fishery contributes to the total shorebased trawl allocation, which is found at 660.140(d)(1)(ii)(D).
ᵈ 30 mt of the total trawl allocation for POP is allocated to the whiting fisheries, as follows: 12.6 mt for the shorebased IFQ fishery, 7.2 mt for the mothership fishery, and 10.2 mt for the catcher/processor fishery. The tonnage calculated here for the whiting portion of the shorebased IFQ fishery contributes to the total shorebased trawl allocation, which is found at 660.140(d)(1)(ii)(D).
ᵉ 500 mt of the total trawl allocation for widow rockfish is allocated to the whiting fisheries, as follows: 210 mt for the shorebased IFQ fishery, 120 mt for the mothership fishery, and 170 mt for the catcher/processor fishery. The tonnage calculated here for the whiting portion of the shorebased IFQ fishery contributes to the total shorebased trawl allocation, which is found at 660.140(d)(1)(ii)(D).

[FR Doc. 2014-26744 Filed 11-6-14; 4:15 pm]

BILLING CODE 3510-22-P